DEPARTMENT OF AGRICULTURE

Forest Service

Escalante Ranger District, Dixie National Forest; UT; Pockets Resource Management Forest Service, USDA

ACTION: Notice of intent to prepare a supplement to the final environmental impact statement.

SUMMARY: The USDA Forest Service announces its intent to prepare a supplement to the Pockets Resource Management Project (PRMP) Final Environmental Impact Statement (FEIS). PRMP FEIS evaluated alternatives for vegetation management and associated road improvements within the Englemann spruce/subalpine fir and aspen forest types on the Escalante Ranger District, Dixie National Forest. The original proposed action and subsequent analysis disclosed in the FEIS remains unchanged. The purpose of this supplement is to provide additional analysis and disclosure on the effects of the proposed action on unroaded and undeveloped areas identified on a 2005 draft map produced during forest plan revision as part of a required inventory and evaluation of areas with wilderness potential. This analysis will focus on the impacts to the wilderness attributes of the three areas being affected by the proposed action.

DATES: Comments concerning the scope of the analysis must be received by February 15, 2009. The draft supplement to the final environmental impact statement is expected in March 2009 and the final environmental impact statement is expected May 2009.

ADDRESSES: Send written comments to Georgina Lampman, District Ranger, P.O. Box 246, Escalante, Utah 84726. Written comments should be specific and should be limited to the scope of this supplement. If you do not have any comments, but wish to remain on the mailing list for this proposal, please send a letter to the above address, or e-mail address listed below and request to be kept informed about the proposal. An e-mail comment mailbox is established for receiving comments electronically at: comments-intermtn-dixie-escalante@fs.fed.us. Please use the project name (Pockets Resource Management Project) as the subject line in your e-mail comment message. Electronic comments must be submitted in a format such as an e-mail message, plain text (.txt), rich text format (.rtf), or Word (.doc).

FOR FURTHER INFORMATION CONTACT: Mail written correspondence to Marianne Orton, Interdisciplinary Team Leader, Powell Ranger Station, P.O. Box 80, Panguitch, Utah 84759.

SUPPLEMENTARY INFORMATION:

On June 16, 2006 a Notice of Intent to prepare an environmental impact statement for the Pockets Resource Management Project (PRMP) was published in the Federal Register. In November 2007 the Notice of Availability of the draft environmental impact statement for the PRMP was published in the Federal Register. On July 14, 2008, Robert MacWhorter, Dixie National Forest Supervisor, signed the Record of Decision for the Pockets Resource Management Project Final Environmental Impact Statement and the NOA was published on August 1, 2008. Three organizations including Utah Environmental Congress, Forest Guardians, and Sierra Club, Utah Chapter, appealed Forest Supervisor Robert MacWhorter's decision stating a lack of disclosure on impacts to areas with wilderness potential.

Forest Supervisor Robert MacWhorter withdrew the decision in October 2008 and directed the PRMP Interdisciplinary Team to prepare a Supplement to the FEIS that discloses the impacts to the wilderness potential of the Pacer Lake, Antimony, and Dry Lake areas inventoried during forest plan revision. The Record of Decision for the SEIS will be appealable under 36 CFR 215 and should only address those items pertinent to the disclosure of effects to the wilderness attributes of these areas.

Comment Requested

Early Notice of Importance of Public Participation in Subsequent Environmental Review: A draft supplement to the final environmental impact statement will be prepared for comment. The comment period on the draft supplement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that timely comments and objections are made available to the Forest Service at a time when it can meaningfully consider them and respond to them in the final supplement to the environmental impact statement.

To assist the Forest Service in identifying and considering issues and concerns on the proposed supplement, comments should be as specific as possible. It is also helpful if comments refer to specific pages of the draft supplement to the statement. Comments may also address the adequacy of the draft supplement or the merits of the disclosure formulated and discussed in this supplement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Responsible Official

Robert G. MacWhorter, Forest Supervisor, Dixie National Forest, 1789 N. Wedgewood Lane, Cedar City, Utah 84721.

Dated: December 4, 2008.
Robert G. MacWhorter,
Forest Supervisor

[FR Doc. E8-29429 Filed 12-12-08; 8:45 am]

BILLING CODE 3410-11-M